DEPARTMENT OF HOMELAND SECURITY

Coast Guard

33 CFR Part 117

[Docket No. USCG-2015-0792]

Drawbridge Operation Regulation; Sacramento River, Freeport, CA

AGENCY: Coast Guard, DHS.

ACTION: Notice of deviation from drawbridge regulation.

SUMMARY: The Coast Guard has issued a temporary deviation from the operating schedule that governs the Sacramento County highway bridge across Sacramento River, mile 46.0, at Freeport, CA. The deviation is necessary to allow the bridge owner to replace bridge counterweight bolts. This deviation allows single leaf operation of the double bascule highway bridge during the deviation period.

DATES: This deviation is effective without actual notice from August 27, 2015 to 6 a.m. on September 11, 2015. For the purposes of enforcement, actual notice will be used from 8 p.m. on August 17, 2015, until August 27, 2015.

ADDRESSES: The docket for this deviation, [USCG-2015-0792], is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email David H. Sulouff, Chief, Bridge Section, Eleventh Coast Guard District; telephone 510-437-3516, email David.H.Sulouff@uscg.mil. If you have questions on viewing the docket, call Cheryl Collins, Program Manager, Docket Operations, telephone 202-366-9826.

SUPPLEMENTARY INFORMATION: The County of Sacramento has requested a temporary change to the operation of the Sacramento County highway bridge, a double bascule drawbridge, mile 46.0, over Sacramento River, at Freeport, CA. The drawbridge navigation span provides 29 feet vertical clearance above Mean High Water in the closed-to-navigation position. In accordance with 33 CFR 117.189(b), the draw opens on signal from May 1 through September 30 from 9 a.m. to 5 p.m. At all other times, the draw shall open on signal if at least four hours notice is give to the drawtender at the Rio Vista Bridge across the Sacramento River, mile 12.8. Navigation on the waterway is recreational and commercial.

Single leaf operation of the Sacramento County highway drawbridge will occur from 8 p.m. on August 17, 2015 to 6 a.m. on September 11, 2015, to allow the bridge owner to replace corroded counterweight bolts. This temporary deviation has been coordinated with the waterway users. No objections to the proposed temporary deviation were raised.

Vessels able to pass through the bridge in the closed position may do so at any time. The bridge will be able to open for emergencies with one leaf in full operational status. There is no alternate route for vessels to pass through the bridge in the closed position. The Coast Guard will also inform waterway users through our Local and Broadcast Notices to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: August 13, 2015.
D.H. Sulouff,
District Bridge Chief, Eleventh Coast Guard District.

[FR Doc. 2015-21300 Filed 8-26-15; 8:45 am]

BILLING CODE 9110-04-P